DEPARTMENT OF VETERANS AFFAIRS

[OMB Control No. 2900-0911]

Agency Information Collection Activity: Suicide Prevention 2.0 Program—Community Opinion Survey

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before September 2, 2025.

ADDRESSES: Comments must be submitted through www.regulations.gov.

FOR FURTHER INFORMATION CONTACT:

Program-Specific information: Rebecca Mimnall, 202-695-9434, vhacopra@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Suicide Prevention 2.0 Program—Community Opinion Survey.

OMB Control Number: 2900-0911. https://www.reginfo.gov/public/do/PRASearch (Once at this link, you can enter the OMB Control Number to find the historical versions of this Information Collection.)

Type of Review: Revision of a currently approved collection.

Abstract: Legal authority for this data collection is found in 38 U.S.C., Part I, Chapter 5, Section 527, which authorizes the collection of data that will allow measurement and evaluation of Department of Veterans Affairs (VA) Programs, the goal of which is improved health care for Veterans. The purpose of the Community Opinion Survey (COS) is to evaluate the impact of Community-Based Intervention (CBI) programs, including the Governor's Challenge (GC), on the population.

The information will be used to accomplish three aims: (1) collect baseline data on the knowledge and attitudes of adult U.S. citizens living in specified communities about Veterans, Veteran suicide, and resources available to Veterans to reduce suicide, prior to the implementation of suicide prevention programs; (2) collect follow-up data in the same communities to assess whether knowledge and attitudes have changed over time; and (3) determine whether the programs and policies implemented by a community resulted in positive change in knowledge and attitudes.

The data will be utilized by the Office of Suicide Prevention in VA Central Office to measure the return on investment of significant resources that have been invested to support communities in their efforts to reduce Veteran suicide. The CBI arm of VA's “Suicide Prevention 2.0” (SP2.0) program has launched two initiatives whose goals are to increase the successful implementation of best practices to prevent Veteran suicide in local communities. The data collected will allow VA to measure a baseline level of expected outcomes, follow-up levels, and explore the role of new programs in any changes, as well as inform program planning and evaluation.

The GC is one of the initiatives supported by SP2.0 and is structured so that State teams are provided training and technical assistance by VA to expand their efforts to implement suicide prevention programs in their State. This data collection will assist the State teams in assessing the effects of their new programming or activities. To date, 55 states and territories have accepted the GC Initiative, and VA will administer the COS in every participating state and territory. The increase in the number of respondents and burden hours is due to the survey being administered for completion of Time 2 data in the first 22 states and for Time 1 and Time 2 data in the remaining 33 states and territories.

Affected Public: Individuals or Households.

Estimated Annual Burden: 11,000 hours.

Estimated Average Burden per Respondent: 15 minutes.

Frequency of Response: Once annually.

Estimated Number of Respondents: 44,000.

Authority: 44 U.S.C. 3501 et seq.

Shunda Willis,
Acting, VA PRA Clearance Officer, (Alt.) Office of Enterprise and Integration/Data Governance Analytics, Department of Veterans Affairs.

[FR Doc. 2025-12222 Filed 6-30-25; 8:45 am]

BILLING CODE 8320-01-P